NATIONAL SCIENCE FOUNDATION

Special Emphasis Panel in Integrative Activities; Notice of Meeting

In accordance with the Federal Advisory Committee Act (Pub. L. 92-463, as amended), the National Science Foundation announces the following meeting:

Name: Special Emphasis Panel in Integrative Activities (1373).

Date and Time: September 27-28, 2000; 8:30 a.m.-5:00 p.m.

Place: Cornell University, Nanobiotechnology Science and Technology Center, Ithaca, NY 14853.

Type of Meeting: Closed.

Contact Person: Lawrence Goldbert, Senior Advisor, Division of Electrical and Communications Systems, National Science Foundation, 4201 Wilson Boulevard, Room 675, Arlington, VA 22230. (703) 292-8339.

Purpose of Meeting: To provide advice and recommendations concerning further NSF support of the Nanobiotechnology Science and Technology Center.

Agenda: To review and evaluate the progress to date on all aspects of the Nanobiotechnology Science and Technology Center.

Reason for Closing: The project being reviewed includes information of a proprietary or confidential nature, including technical information; financial data and personal information concerning individuals associated with the proposals. These matters are exempt under 5 U.S.C. 552b(c), (4) and (6) of the Government in the Sunshine Act.

Dated: August 18, 2000.
Karen J. York,
Committee Management Officer.

[FR Doc. 00-21551 Filed 8-22-00; 8:45 am]

BILLING CODE 7555-01-M